DEPARTMENT OF JUSTICE

Antitrust Division

Notice Pursuant to the National Cooperative Research and Production Act of 1993—National Armaments Consortium

Notice is hereby given that, on May 28, 2015, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, AeroVironment, Inc., Huntsville, AL; Alion Science and Technology, Burr Ridge, IL; Alloy Technology Innovation (ATI, Inc.), Nicholasville, KY; Angel Armor, LLC, Fort Collins, CO; Applied Poleramic, Inc., Benicia, CA; AT&T Government Solutions, Inc., Vienna, VA; ATA Engineering, Inc, San Diego, CA; Cipher3LV, LLC, Stafford, VA; CompGeom, Inc, Tallahassee, FL; Custom Cable Solutions, Inc., Salisbury, MD; Decision Sciences, Inc., Fort Walton Beach, FL; Dev-Lock Systems, Inc., Littleton, CO; Engineering Research and Consulting, Inc., Huntsville, AL; Fantastic Data, LLC, San Francisco, CA; Flex Force Enterprises, LLC, Portland, OR; George W. Solhan, LLC, Tampa, FL; Grid Logic, Inc., Lapeer, MI; GuardBot, Inc., Stamford, CT; Hardwire, LLC, Pocomoke City, MD; Kestrel Corporation, Alburquerque, NM; Kratos Lancaster, Lancaster, PA; L-3 Unmanned Systems, Inc., Ashburn, VA; Liberty Consulting Solutions, Toms River, NJ; MAST Technology, Inc., Independence, MO; Materials Research and Design, Inc., Wayne, PA; McCormick Stevenson Corporation, Clearwater, FL; McNally Industries, LLC, Grantsburg, WI; NPC Robotics Corp., Mound, MN; NTA, Inc, Huntsville, AL; Phase IV Engineering, Inc., Boulder, CO; Power Design Services, San Jose, CA; Pratt & Miller Engineering & Fabrication, Inc., New Hudson, MI; Proof Research Advanced Composites Division, Moraine, OH; PROOF Research, Inc., Columbia Falls, MT; Propagation Research Associates, Inc., Marietta, GA; Protection Engineering Consultants, LLC, San Antonio, TX; Rocky Research, Boulder, CO; Saint-Gobain Ceramics & Plastics, Inc., Milford, NH; Steel Founders' Society of America, Crystal Lake, IL; Stryke Industries, Inc., Warsaw, IN; Syntek Technologies, Inc, Alexandria, VA; T.Quinn & Associates, LLC, Warren, MI; TenCate Advanced Armor Design, Inc., Goleta, CA; Tethers Unlimited, Inc., Bothell, WA; Texas Tech University, Lubbock, TX; Toyon Research Corporation, Goleta, CA; TrackingPoint, Inc., Pflugerville, TX; Triumph Structures—Los Angeles, Inc. (TSLA), City of Industry, CA; University of Louisiana at Lafayette, Lafayette, LA; and Valley Tech Systems, Inc., Reno, NV have been added as parties to this venture.

Also, Airtronic USA, Inc., Elk Grove Village, IL; Cyalume Technologies, Inc., West Springfield, MA; D&S Consultants, Inc. (DSCI), Eatontown, NJ; David Earl Cain, Katy, TX; Defense Research Associates, Inc. (DRA), Beavercreek, OH; Energetics Technology Center, St. Charles, MD; Gomez Research Associates, Inc., Huntsville, AL; HEM Technolgies, Lubbock, TX; LithChem Energy, Folcroft, PA; Marotta Controls, Inc., Montville, NJ; MELITA Consulting, Alexandria, VA; Metamagnetics Inc., Canton, MA; Middle Forge Consulting LLC, Rockaway, NJ; M-Mech Defense, Inc., State College, PA; mPhase Technologies, Inc., Norwalk, CT; Nova Training and Technology Solutions, LLC, Garnet Valley, PA; R. Stresau Laboratory, Inc. (dba Stresau Laboratory, Inc.), Spooner, WI; Technology & Management International (TAMI), LLC, Toms River, NJ; Trijicon Inc., Wizom, MI; Universal Global Products, LLC, Dover, NJ; University of Louisiana at Lafayette, Lafayette, LA; URS Federal Services, Inc., APG, MD; Wavefront, LLC, Basking Ridge, NJ; and Woodward HRT, Inc., Santa Clara, CA, have withdrawn as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on February 13, 2015. A notice was published in the Federal Register pursuant to section 6(b) of the Act on March 13, 2015 (80 FR 13423).

Patricia A. Brink,
Director of Civil Enforcement, Antitrust Division.

[FR Doc. 2015-15566 Filed 6-24-15; 8:45 am]

BILLING CODE P